DEPARTMENT OF ENERGY

Office of Energy Efficiency and Renewable Energy

Developing Large-Scale Renewable Energy Projects at Federal Facilities Using Private Capital Draft

AGENCY: Office of Energy Efficiency and Renewable Energy, Department of Energy (DOE).

ACTION: Notice of availability.

SUMMARY: DOE is releasing for public comment a draft guidebook entitled Federal Renewable Energy Guide: Developing Large-Scale Renewable Energy Projects at Federal Facilities Using Private Capital. DOE will consider comments and recommendations on the draft guidebook, which is available at: http://www1.eere.energy.gov/femp/pdfs/largereguide.pdf.

DATES: DOE will accept comments, data, and information regarding this draft guidebook no later than July 2, 2012.

ADDRESSES: You may submit comments by any of the following methods:

1. Email to: FEMPLargeREGuide@ee.doe.gov. Include “Comments—[Name/Organization]” in the subject line of the email. Please include the full body of your comments in the text of the message or as an attachment.

2. Mail: Address written comments to Anne Crawley, U.S. Department of Energy, Office of Energy Efficiency and Renewable Energy, Federal Energy Management Program (EE-2L), 1000 Independence Avenue SW., Washington, DC 20585-0121.

Because of potential delays in DOE's receipt and processing of mail sent through the U.S. Postal Service, we encourage respondents to submit comments electronically to ensure timely receipt.

FOR FURTHER INFORMATION CONTACT: Mrs. Anne Crawley, U.S. Department of Energy, Office of Energy Efficiency and Renewable Energy, Federal Energy Management Program (EE-2L), 1000 Independence Ave. SW., Washington, DC 20585-0121; (202) 586-1505; Anne.Crawley@ee.doe.gov.

SUPPLEMENTARY INFORMATION: The draft guidebook, entitled Federal Renewable Energy Guide: Developing Large-Scale Renewable Energy Projects at Federal Facilities Using Private Capital, provides guidance to Federal agencies on how to establish a project development framework to allow Federal agencies to work effectively with private developers on the implementation of large-scale renewable energy projects.

FEMP specifically requests comment and information with respect to the following issues:

1. Does Figure 3 in Section I sufficiently identify the private sector's motivations and constraints related to large-scale renewable energy projects?

2. Does Section II accurately describe the general process that renewable energy developers and financiers use to develop large-scale renewable energy projects?

3. Does the graphic in Figure 1 reasonably portray the developer and financier processes? If not, please recommend changes.

4. Do you agree with the seven categories of project development outlined in Section II and expanded on in Appendix B?

5. Are the terms referring to the stages of the process that developers and financiers use to develop large-scale renewable energy projects accurate? Would you use any different terms? If so, can you define those terms for a general audience?

6. What items would you add to the checklists in Appendix B?

7. Would renewable energy developers be interested in pursuing large-scale renewable energy projects at Federal facilities that follow the steps outlined in this guidebook?

8. What, if anything, is this guidebook missing?

This draft guidebook is available at: http://www1.eere.energy.gov/femp/pdfs/largereguide.pdf. DOE will accept comments and information regarding the draft guidebook no later than the date specified in the DATES section.

More information on DOE's FEMP is available at: http://www1.eere.energy.gov/femp/.

Issued in Washington, DC, on May 24, 2012.
Timothy D. Unruh,
Program Manager, DOE-EERE Federal Energy Management Program.

[FR Doc. 2012-13287 Filed 5-31-12; 8:45 am]

BILLING CODE 6450-01-P